DEPARTMENT OF THE INTERIOR

National Park Service

[NPS-WASO-NRNHL-DTS#-37538; PPWOCRADI0, PCU00RP14.R50000]

National Register of Historic Places; Notification of Pending Nominations and Related Actions

AGENCY: National Park Service, Interior.

ACTION: Notice.

SUMMARY: The National Park Service is soliciting electronic comments on the significance of properties nominated before February 24, 2024, for listing or related actions in the National Register of Historic Places.

DATES: Comments should be submitted electronically by March 19, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 24, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name(if applicable), Address/Boundary, City, Vicinity, Reference Number.

FLORIDA

St. Johns County

Lodge and Hut, 9177-9179 Old A1A Highway, Summer Haven, SG100010155

Sumter County

Community of Royal Rural Historic District, Bounded by Cty. Rd. 475, Cty. Rd. 216A, Cty. Rd. 223, and US Hwy. 44, Wildwood, RS100009226

HAWAII

Honolulu County

The Bowers' House, 4837 Sierra Drive, Honolulu, SG100010159

MARYLAND

Frederick County

Emmitsburg Historic District (Boundary Increase), A portion of the south side of the 400 block of West Lincoln Avenue, from Patterson Avenue, 375′ west, to the west property line of 439 West Lincoln Avenue, Emmitsburg, BC100010150

Prince George's County

Washington, George, House (Additional Documentation), (The Women's Suffrage Movement in Maryland MPS), Baltimore Ave. at Upshur St., Bladensburg, MP74002198

MICHIGAN

Branch County

Capri Drive-In Theater, 119 West Chicago Road, Batavia Township, SG100010158

Jackson County

Hayes Hotel, 226-234 West Michigan Avenue, Jackson, SG100010157

Tuscola County

Moore, William J. and Lovila (Wooley), House, 123 North Almer Street, Caro, SG100010162

MISSOURI

Callaway County

Middle River School (One-Teacher Public Schools of Missouri MPS), 6587 County Road 305, Fulton, MP100010147

St. Louis INDEPENDENT CITY

Chouteau's Landing Historic District, Cedar St., South 1st St., Chouteau Ave., South 3rd St., St. Louis, SG100010146

MONTANA

Hill County

Northern Montana College Girls Residence Hall, 300 West 11th Street, Havre, SG100010160

PENNSYLVANIA

Allegheny County

Mt. Alvernia Historic District, 146 Hawthorne Road, Shaler, SG100010142

TENNESSEE

Anderson County

Cross—Boggs Place, 453 Oliver Springs Highway, Clinton, SG100010138

TEXAS

Bexar County

Monkey House/Commissary (San Antonio Zoo) (Historic Buildings and Structures of the San Antonio Zoo MPS), 3903 North St. Mary's Street, San Antonio, MP100010141

Gonzales County

Edwards High School, 1427 Fly Street, Gonzales, SG100010161

VERMONT

Windsor County

Old South Church, 146 Main Street, Windsor, SG100010130

WISCONSIN

Door County

PEORIA Shipwreck (Schooner) (Great Lakes Shipwreck Sites of Wisconsin MPS), 0.15 miles northeast of the Baileys Harbor Marina entrance, in Baileys Harbor, Lake Michigan, Baileys Harbor vicinity, MP100010152

Waukesha County

Morey, Theodore I. and Margaret, House, 1516 Pleasant View Avenue, Waukesha, SG100010153

Additional documentation has been received for the following resource(s):

COLORADO

Weld County

Dearfield (Additional Documentation), Along CO 34, 11 mi. W of Wiggins, Wiggins vicinity, AD95001002

MARYLAND

Frederick County

Emmitsburg Historic District (Additional Documentation), Roughly, Main St. E of Mountain View Cemetery to Creamery Rd. and Seton Ave. adjacent to Main, Emmitsburg, AD92000076

TENNESSEE

Davidson County

Federal Office Building (Additional Documentation), 701 Broadway, Nashville, AD72001232

Gymnasium, Vanderbilt University (Additional Documentation), 2301 West End Avenue, Nashville, AD72001233

Hays-Kiser House (Additional Documentation), 834 Reeves Rd., Antioch, AD74001906

Knox County

Craighead-Jackson House (Additional Documentation), 1000 State St., Knoxville, AD73001801

Maury County

Grace Episcopal Church (Additional Documentation), 5291 Main Street, Spring Hill, AD76001789

Roane County

Harriman City Hall (Additional Documentation), 332 N Roane Street, Harriman, AD71000828

Sevier County

Waters House (Additional Documentation), 217 Cedar St., Sevierville, AD75001784

Shelby County

Lee and Fontaine Houses of the James Lee Memorial (Additional Documentation) 680—690 Adams Ave., Memphis, AD71000835

St. Mary's Catholic Church (Additional Documentation), 155 Market St., Memphis, AD74001929

Steele Hall (Additional Documentation), 783 Walker Avenue, Memphis, AD79002481

Sullivan County

Johnson, J. Fred, House (Additional Documentation), 1322 Watauga Street, Kingsport, AD73001843

Authority: Section 60.13 of 36 CFR part 60.

Sherry A. Frear,
Chief, National Register of Historic Places/National Historic Landmarks Program.

[FR Doc. 2024-04501 Filed 3-1-24; 8:45 am]

BILLING CODE 4312-52-P